DEPARTMENT OF ENERGY

Federal Energy Regulatory Commission

[Docket No. CP02-80-000]

Reliant Energy Gas Transmission Company; Notice of Application

February 13, 2002.

Take notice that on February 4, 2002, Reliant Energy Gas Transmission Company (REGT), whose main office is located at 1111 Louisiana Street, Houston, Texas 77210, filed in Docket No. CP02-80-000, an application requesting authorization to construct, own and operate mainline compression facilities and appurtenances located in Arkansas, pursuant to section 7(c) of the Natural Gas Act (NGA), as amended, and part 157 of the Commission's Rules and Regulations, all as more fully set forth in the application which is on file with the Commission and open to public inspection. Copies of this filing are on file with the Commission and are available for public inspection. This filing may also be viewed on the Web at http://www.ferc.gov using the “RIMS” link, select “Docket #” and follow the instructions (call 202-208-2222 for assistance).

Specifically, REGT states that it proposes to construct, own, and operate a 4,740 horsepower compressor station and appurtenant facilities on its Line J system in Jackson County, Arkansas which, upon completion, will enable firm transportation service by REGT to a new electric generating plant being constructed by TPS Dell, LLC (Dell). REGT states that the total construction costs are estimated to be $7.8 million.

REGT states that Dell has requested that firm service commence by October 1, 2002, and REGT requests Commission authorization be granted by June 1, 2002 to enable REGT to commence construction by July 1, 2002 to meet Dell's requested in service date.

Any questions concerning this application may be directed to Lawrence O. Thomas, Director, Rates and Regulatory, Reliant Energy Gas Transmission, PO Box 21734, Shreveport, Louisiana 71151, call (318) 429-2804, fax (318) 429-3133.

There are two ways to become involved in the Commission's review of this project. First, any person wishing to obtain legal status by becoming a party to the proceedings for this project should, on or before March 6, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

Linwood A. Watson, Jr.,
Deputy Secretary.

[FR Doc. 02-4034 Filed 2-19-02; 8:45 am]

BILLING CODE 6717-01-P